DEPARTMENT OF DEFENSE

Department of the Navy

Meeting of the Board of Visitors of Marine Corps University

AGENCY: Department of the Navy, DoD.

ACTION: Notice of open meeting.

SUMMARY: The Board of Visitors of the Marine Corps University (BOV MCU) will meet to review, develop and provide recommendations on all aspects of the academic and administrative policies of the University; examine all aspects of professional military education operations; and provide such oversight and advice, as is necessary, to facilitate high educational standards and cost effective operations. The Board will be focusing primarily on the University's Command and Staff College, including its efforts to integrate Arabic language and culture into the curriculum for AY05/06. The Board will be apprised of recent developments at Marine Corps University, including progress on the construction efforts for the National Museum of the Marine Corps. All sessions of the meeting will be open to the public.

DATES: The meeting will be held on Wednesday, November 2, 2005, from 8 a.m. to 4 p.m. and on Thursday, November 3, 2005, from 8 a.m. to 11:30 a.m.

ADDRESSES: The meeting will be held at Marine Corps University in the Hooper Room. The address is: Marine Corps University, 2076 South Street, Quantico, Virginia 22134.

FOR FURTHER INFORMATION CONTACT: Mary Lanzillotta, Executive Secretary, Marine Corps University Board of Visitors, 2076 South Street, Quantico, Virginia 22134, telephone number 703-784-4037.

Dated: October 4, 2005.
I.C. Le Moyne Jr.,
Lieutenant, Judge Advocate General's Corps, U.S. Navy, Alternate Federal Register Liaison Officer.

[FR Doc. 05-20564 Filed 10-13-05; 8:45 am]

BILLING CODE 3810-FF-P